DEPARTMENT OF COMMERCE

International Trade Administration

[C-533-878]

Stainless Steel Flanges From India: Final Results of the Expedited First Sunset Review of the Countervailing Duty Order

AGENCY: Enforcement and Compliance, International Trade Administration, Department of Commerce.

SUMMARY: The U.S. Department of Commerce (Commerce) finds that revocation of the countervailing duty (CVD) order on stainless steel flanges (steel flanges) from India would be likely to lead to the continuation or recurrence of countervailable subsidies at the levels indicated in the “Final Results of Sunset Review” section of this notice.

DATES: Applicable August 31, 2023.

FOR FURTHER INFORMATION CONTACT: Emily Halle, AD/CVD Operations, Office V, Enforcement and Compliance, International Trade Administration, U.S. Department of Commerce, 1401 Constitution Avenue NW, Washington, DC 20230; telephone: (202) 482-0176.

SUPPLEMENTARY INFORMATION:

Background

On October 5, 2018, Commerce published in the Federal Register the order on steel flanges from India.¹ On May 1, 2023, Commerce published the notice of initiation of the first sunset review of the Order, in accordance with section 751(c) of the Tariff Act of 1930, as amended (the Act).² In May 2023, Commerce received timely notices of intent to participate from Core Pipe Products, Inc. (Core Pipe) and Kerkau Manufacturing (Kerkau) (collectively, the domestic interested parties).³ The domestic interested parties claimed interested party status under section 771(9)(C) of the Act as domestic producers engaged in the production of steel flanges in the United States.

¹ See Stainless Steel Flanges from India: Countervailing Duty Order, 83 FR 50336 (October 5, 2018) (Order).

² See Initiation of Five-Year (Sunset) Reviews, 88 FR 26522 (May 1, 2023).

³ See Core Pipe's Letter, “Notice of Intent to Participate,” dated May 15, 2023; and Kerkau's Letter, “Notice of Intent to Participate by Kerkau Manufacturing,” dated May 16, 2023.

On May 31, 2023, Commerce received timely and adequate substantive responses from the domestic interested parties.⁴ We received no substantive responses from any other interested parties, including the Government of India, nor was a hearing requested. On June 20, 2023, Commerce notified the U.S. International Trade Commission that it did not receive an adequate substantive response from respondent interested parties.⁵ As a result, pursuant to section 751(c)(3)(B) of the Act and 19 CFR 351.218(e)(1)(ii)(C)(2), Commerce conducted an expedited (120-day) sunset review of the Order.

⁴ See Core Pipe's Letter, “Domestic Interested Party's Substantive Response,” dated May 31, 2023; and Kerkau's Letter, “Substantive Response of Kerkau Manufacturing,” dated May 31, 2023.

⁵ See Commerce's Letter, “Sunset Reviews Initiated on May 1, 2023,” dated June 20, 2023.

Scope of the Order

The merchandise covered by the Order is stainless steel flanges. For a complete description of the scope, see the Issues and Decision Memorandum.⁶

⁶ See Memorandum, “Issues and Decision Memorandum for the Final Results of the Expedited First Sunset Review of the Countervailing Duty Order on Stainless Steel Flanges from India,” dated concurrently with, and hereby adopted by, this notice (Issues and Decision Memorandum).

Analysis of Comments Received

All issues raised in this sunset review are addressed in the accompanying Issues and Decision Memorandum. The issues discussed in the Issues and Decision Memorandum are the likelihood of continuation or recurrence of countervailable subsidies, the net countervailable subsidy rates that are likely to prevail, and the nature of the subsidies. A list of the topics discussed in the Issues and Decision Memorandum is attached as an appendix to this notice.

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would be likely to lead to the continuation or recurrence of countervailable subsidies at the rates listed below:

Producer/exporter | Subsidy rate (percent ad valorem)
Bebitz Flanges Works Private Limited | 256.45
Echjay Forgings Private Limited | 5.21
All Others | 5.21

Administrative Protective Order (APO)

This notice also serves as the only reminder to parties subject to an APO of their responsibility concerning the destruction of proprietary information disclosed under APO in accordance with 19 CFR 351.305. Timely notification of the return or destruction of APO materials or conversion to judicial protective order is hereby requested. Failure to comply with the regulations and terms of an APO is a sanctionable violation.

Notification to Interested Parties

We are issuing and publishing these results in accordance with sections 751(c), 752(b), and 777(i)(1) of the Act and 19 CFR 351.218.

Dated: August 24, 2023.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Countervailable Subsidies

2. Net Countervailable Subsidy Rates that Are Likely to Prevail

3. Nature of the Subsidies

VII. Final Results of Sunset Review

VIII. Recommendation

[FR Doc. 2023-18811 Filed 8-30-23; 8:45 am]

BILLING CODE 3510-DS-P